DEPARTMENT OF STATE

[Public Notice: 12095]

Bureau of Political-Military Affairs; Statutory Debarment Under the Arms Export Control Act and the International Traffic in Arms Regulations

ACTION: Notice.

SUMMARY: Notice is hereby given that the Department of State has imposed statutory debarment under the International Traffic in Arms Regulations (ITAR) on persons convicted of violating, or conspiracy to violate, the Arms Export Control Act (AECA).

DATES: Debarment imposed as of June 15, 2023.

FOR FURTHER INFORMATION CONTACT: Jae E. Shin, Director, Office of Defense Trade Controls Compliance, Bureau of Political-Military Affairs, Department of State: shinje@state.gov, (202) 632-2107.

SUPPLEMENTARY INFORMATION: Section 38(g)(4) of the AECA, 22 U.S.C. 2778(g)(4), restricts the Department of State from issuing licenses for the export of defense articles or defense services where the applicant, or any party to the export, has been convicted of violating the AECA or certain other statutes, enumerated in section 38 of the AECA, subject to a narrowly defined statutory exception. This provision establishes a presumption of denial for licenses or other approvals involving such persons. The Department refers to this restriction as a limitation on “export privileges” and implements this presumption of denial through section 127.11 of the ITAR.

In addition, section 127.7(b) of the ITAR provides for “statutory debarment” of any person who has been convicted of violating or conspiring to violate the AECA. Under this policy, persons subject to statutory debarment are prohibited from participating directly or indirectly in any activities that are regulated by the ITAR. Statutory debarment is based solely upon conviction in a criminal proceeding, conducted by a United States court, and as such the administrative debarment procedures outlined in part 128 of the ITAR are not applicable.

It is the policy of the Department of State that statutory debarment as described in section 127.7(b) of the ITAR lasts for a three-year period following the date of conviction and to prohibit that person from participating directly or indirectly in any activities that are regulated by the ITAR. Reinstatement from the policy of statutory debarment is not automatic, and in all cases the debarred person must submit a request to the Department of State and be approved for reinstatement from statutory debarment before engaging in any activities subject to the ITAR.

Department of State policy permits debarred persons to apply to the Director, Office of Defense Trade Controls Compliance, for reinstatement beginning one year after the date of the statutory debarment. In response to a request for reinstatement from statutory debarment, the Department may determine either to rescind only the statutory debarment pursuant to section 127.7(b), or to both rescind the statutory debarment pursuant to section 127.7(b) of the ITAR and reinstate export privileges as described in section 127.11 of the ITAR. See 84 FR 7411 (March 4, 2019) for discussion of the Department's policy regarding actions to both rescind the statutory debarment and reinstate export privileges. The reinstatement of export privileges can be made only after the statutory requirements of section 38(g)(4) of the AECA have been satisfied.

Certain exceptions, known as transaction exceptions, may be made to this debarment determination on a case-by-case basis. However, such an exception may be granted only after a full review of all circumstances, paying particular attention to the following factors: whether an exception is warranted by overriding U.S. foreign policy or national security interests; whether an exception would further law enforcement concerns that are consistent with the foreign policy or national security interests of the United States; or whether other compelling circumstances exist that are consistent with the foreign policy or national security interests of the United States, and that do not conflict with law enforcement concerns. Even if exceptions are granted, the debarment continues until subsequent reinstatement from statutory debarment.

Pursuant to section 38(g)(4) of the AECA and section 127.7(b) and (c)(1) of the ITAR, the following persons, having been convicted in a U.S. District Court, are denied export privileges and are statutorily debarred as of the date of this notice (Name; Date of Judgment; Judicial District; Case No.; Month/Year of Birth):

Almendarez, Maria Guadalupe; May 10, 2022; Eastern District of Arkansas; 4:19-cr-00116; December 1980.

Bükey, Murat; a.k.a. Bukey, Murat; a.k.a. Murat, Recep; March 22, 2023; District of Columbia; 1:18-cr-00129; January 1971.

Cassidy, Kevin Jerome; September 13, 2022; District of Arizona; 2:18-cr-01236; December 1959.

Hamade, Usama Darwich; a.k.a. Hamade, Prince Sam; July 22, 2020; District of Minnesota; 0:15-cr-00237; December 1964.

Pierson, Andrew Scott; April 29, 2022; Eastern District of Arkansas; 4:19-cr-00116; May 1975.

Radionov, Ihor; August 27, 2021; Middle District of Florida; 8:20-cr-00308; January 1969.

Sery, Joe; September 19, 2022; Southern District of California; 3:21-cr-02898; June 1944.

Ugur, Arif; December 16, 2022; District of Massachusetts; 1:21-cr-10221; January 1969.

Veletanlic, Hany; January 27, 2020; Western District of Washington; 2:18-cr-00162; December 1983.

Wu, Tian Min; a.k.a. Wu, Bob; a.k.a. Wu, David; a.k.a. Sones, Graham; a.k.a. Wang, Edward; June 9, 2021; Central District of California; 2:17-cr-00081; April 1965.

At the end of the three-year period following the date of this notice, the above-named persons remain debarred unless a request for reinstatement from statutory debarment is approved by the Department of State.

Pursuant to section 120.1(c) of the ITAR, debarred persons are generally ineligible to participate in activities regulated under the ITAR. Also, under section 127.1(d) of the ITAR, any person who has knowledge that another person is ineligible pursuant to section 120.1(c)(2) of the ITAR may not, without disclosure to and written approval from the Directorate of Defense Trade Controls, participate, directly or indirectly, in any ITAR-controlled transaction where such ineligible person may obtain benefit therefrom or have a direct or indirect interest therein.

This notice is provided for purposes of making the public aware that the persons listed above are prohibited from participating directly or indirectly in activities regulated by the ITAR, including any brokering activities and any export from or temporary import into the United States of defense articles, technical data, or defense services in all situations covered by the ITAR. Specific case information may be obtained from the Office of the Clerk for the U.S. District Courts mentioned above and by citing the court case number where provided.

Jessica Lewis,
Assistant Secretary, Department of State.

[FR Doc. 2023-12789 Filed 6-14-23; 8:45 am]

BILLING CODE 4710-25-P